DEPARTMENT OF COMMERCE

Foreign-Trade Zones Board

[Docket 8-2012]

Foreign-Trade Zone 183—Austin, TX; Application for Reorganization Under the Alternative Site Framework

An application has been submitted to the Foreign-Trade Zones (FTZ) Board (the Board) by the Foreign Trade Zone of Central Texas, Inc., grantee of FTZ 183, requesting authority to reorganize the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on February 9, 2012.

FTZ 183 was approved by the Board on December 23, 1991 (Board Order 550, 57 FR 42, 1/2/92), and expanded on March 16, 1998 (Board Order 964, 63 FR 13837, 3/23/98), on July 10, 1998 (Board Order 994, 63 FR 39071, 7/21/98), on April 7, 1999 (Board Order 1035, 64 FR 19978, 4/23/99), on March 15, 2001 (Board Order 1143, 66 FR 16650, 3/27/01), and on January 27, 2005 (Board Order 1366, 70 FR 6616-6617, 2/8/05).

The current zone project includes the following sites: Site 1 (33 acres)—Interchange within the Austin Enterprise Zone, located at Bolm Road and Gardner Road, Austin; Site 2 (50 acres)—Balcones Research site located in north central Austin at the intersection of Burnett Road and Longhorn Boulevard; Site 3 (449.9 acres)—Corridor Park II (Dell), Dell Way/IH 35, Round Rock; Site 4 (47 acres)—Cedar Park site, some 8 miles northwest of the Austin city limits, in Williamson County; Site 5 (100 acres)—Borroughs, Chandler Road/Cypress Boulevard, Round Rock; Site 6 (246 acres)—Georgetown site, located along I-35 and U.S. 81, south of downtown Georgetown; Site 7 (40 acres)—San Marcos site, located within the San Marcos Municipal Airport facility in eastern San Marcos, adjacent to State Highway 21, on the Hays County/Caldwell County line; Site 8 (200 acres)—MET Center industrial park located between U.S. Highway 183 South and State Highway 71 East in southeast Austin, some 5 miles northwest of the Austin Bergstrom International Airport; Site 9 (56.4 acres)—Data Products/Nature Conservancy, Montopolis Drive/East Riverside Drive, Austin; Site 10 (22.6 acres)—Ben White Business Park, South Industrial Drive/Business Center Drive, Austin; Site 11 (64.5 acres)—Walnut Business Park, US 290/US 183, Austin; Site 12 (100 acres)—Harris Branch, Harris Branch Parkway/Parmer Lane, Austin; Site 13 (15 acres)—Hill Partners within the Global Business Park, Rutherford Lane/Cameron Road, Austin; Site 14 (91 acres)—Corridor Park I (Wayne Dresser), Jarrett Way, Round Rock; Site 15 (108.5 acres)—Vista Business Park/Bratton, Wells Port Drive/Grand Avenue Parkway, Round Rock; Site 16 (72.6 acres)—North Park, Grand Avenue Parkway/IH 35, Round Rock; Site 17 (40 acres)—Harvard, Glenn Drive, Round Rock; Site 18 (574 acres)—Parmer Lane, E. Parmer Lane/McCallen Pass, Round Rock; Site 19 (217.9 acres)—Tech Ridge, McCallen Pass/Howard Lane, Round Rock; Site 20 (58.5 acres)—Wells Branch Industrial Park, Howard Lane/McNiel-Meriltown Road, Round Rock; Site 21 (45.5 acres)—Metric Center, Metric Boulevard, Round Rock; Site 22 (38.5 acres)—Crystal Park, E. Old Settlers Boulevard, Round Rock; Site 23 (116.3 acres)—Westinghouse, Westinghouse Drive/IH 35, Round Rock; and, Site 24 (30 acres)—Coop Smith & Park Central, County Road 116/111, Round Rock.

The grantee's proposed service area under the ASF would be Bastrop, Caldwell, Hays, Travis and Williamson Counties, Texas. If approved, the grantee would be able to serve sites throughout the service area based on companies' needs for FTZ designation. The proposed service area is within and adjacent to the Austin Customs and Border Protection port of entry.

The applicant is requesting authority to reorganize its existing zone project to include all of the existing sites as “magnet” sites. No usage-driven sites are being requested at this time. Because the ASF only pertains to establishing or reorganizing a general-purpose zone, the application would have no impact on FTZ 183's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is April 16, 2012. Rebuttal comments in response to material submitted during the foregoing period may be submitted during the subsequent 15-day period to April 30, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: February 9, 2012.
Andrew McGilvray,
Executive Secretary.

[FR Doc. 2012-3570 Filed 2-14-12; 8:45 am]

BILLING CODE P